DEPARTMENT OF TRANSPORTATION

Pipeline and Hazardous Materials Safety Administration

[Docket No. PHMSA-2017-0082]

Pipeline Safety: Information Collection Activities

AGENCY: Pipeline and Hazardous Materials Safety Administration (PHMSA), DOT.

ACTION: Notice and request for comments.

SUMMARY: On October 18, 2017, in accordance with the Paperwork Reduction Act of 1995, the Pipeline and Hazardous Materials Safety Administration (PHMSA) published a notice in the Federal Register to invite comments on an information collection under Office of Management and Budget (OMB) Control No. 2137-0629 to revise Form PHMSA F 7100.1-1 Annual Report—Gas Distribution System, and the instructions associated with this Form.

During the 60-day comment period, PHMSA received five comments in response to this information collection from the stakeholders. PHMSA is publishing this notice to respond to the comments received and to announce that the information collection will be submitted to OMB for approval.

DATES: Comments must be submitted on or before February 26, 2018.

ADDRESSES: Send comments regarding the burden estimate, including suggestions for reducing the burden, to OMB, Attention: Desk Officer for the Office of the Secretary of Transportation, 725 17th Street NW, Washington, DC 20503. You may also send comments by email to OIRA-submission@omb.eop.gov.

FOR FURTHER INFORMATION CONTACT: Angela Dow by telephone at 202-366-1246, by fax at 202-366-4566, or by mail at U.S. Department of Transportation, PHMSA, 1200 New Jersey Avenue SE, PHP-30, Washington, DC 20590-0001.

SUPPLEMENTARY INFORMATION:

I. Background

Section 1320.8(d), Title 5, Code of Federal Regulations, requires PHMSA to provide interested members of the public and affected entities an opportunity to comment on information collection and recordkeeping requests. This notice identifies the proposed changes to the information collection that PHMSA will submit to OMB for approval. In order to improve the data collection processes, PHMSA is revising the Gas Distribution Annual Report Form PHMSA F 7100.1-1, and the instructions associated with this Form. PHMSA will remove “Other” as a selection for Operator Type in Part A7 and add guidance for the proper selection to the instructions. By eliminating “Other” as a selection, PHMSA will obtain more accurate data about the types of gas distribution operators.

PHMSA is also changing the instructions for PHMSA Form 7100.1-1, Gas Distribution System Annual Report, related to calculating the percent of lost and unaccounted for (LAUF) gas and negative percent values. PHMSA will calculate the percent of LAUF gas by dividing the LAUF volume by the gas consumption volume. PHMSA will allow a negative value to be reported for the percent of LAUF gas. These changes will harmonize the PHMSA and Energy Information Administration (EIA) methodologies for calculating the percent of LAUF gas.

PHMSA received five comments in response to the revision of this information collection. Four comments came from anonymous sources and one comment came from The American Public Gas Association (APGA).

A. Summary of Comment

PHMSA has proposed changing the denominator from “volume of input” to “volume consumed” when calculating the percent of lost and unaccounted for gas. This change would match the methodology used by the EIA. APGA recommends no change to the methodology for calculating the percent of lost and unaccounted for gas since a percent is not reported to the EIA. Also, changing the denominator for calculating percent would make analysis of multi-year trends more difficult.

B. PHMSA Response

Each year, EIA publishes volume data in a document titled: Natural Gas Annual. In Table A1 of the calendar year 2016 Natural Gas Annual, the EIA calculates “Losses and Unaccounted as a percent of Total Consumption.” PHMSA's proposal aligns with the EIA methodology in the Natural Gas Annual. Regarding the impact of the methodology change on the analysis of multi-year trends, the impact would be minimal. For example, using calendar year 2016 EIA data for Massachusetts, the percent using the current PHMSA methodology yields a value of 3.2 percent. When using the EIA methodology, the value is 3.3 percent.

II. Summary of Impacted Collection

Section 1320.8(d), Title 5, Code of Federal Regulations, requires PHMSA to provide interested members of the public and affected agencies an opportunity to comment on information collection and recordkeeping requests. This notice identifies an information collection request that PHMSA will submit to OMB for revision. The changes proposed by PHMSA would have no effect on the calendar year 2017 data collection now in progress. The changes would be implemented when operators submit calendar year 2018 data early in calendar year 2019.

The following information is provided for this information collection: (1) Title of the information collection; (2) OMB control number; (3) Current expiration date; (4) Type of request; (5) Abstract of the information collection activity; (6) Description of affected public; (7) Estimate of total annual reporting and recordkeeping burden; and (8) Frequency of collection. PHMSA will request a three-year term of approval for this information collection activity. PHMSA requests comments on the following information collection:

1. Title: Annual Report for Gas Distribution Pipeline Operators.

OMB Control Number: 2137-0629.

Current Expiration Date: 1/31/2018.

Type of Request: Revision.

Abstract: PHMSA intends to revise the form and instructions for the gas distribution annual report PHMSA F 7100.1-1.

Affected Public: Gas distribution pipeline operators.

Annual Reporting and Recordkeeping Burden:

Total Annual Responses: 1,446.

Total Annual Burden Hours: 24,582.

Frequency of Collection: Annually.

Comments are invited on:

(a) The need for the renewal and revision of these collections of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended; and 49 CFR 1.48.

Issued in Washington, DC, on January 18, 2018, under authority delegated in 49 CFR 1.97.
Alan K. Mayberry,
Associate Administrator for Pipeline Safety.

[FR Doc. 2018-01324 Filed 1-24-18; 8:45 am]

BILLING CODE 4910-60-P